U.S.-CHINA ECONOMIC AND SECURITY REVIEW COMMISSION

Notice of Open Public Hearing

AGENCY: U.S.-China Economic and Security Review Commission.

ACTION: Notice of open public hearing—June 27, 2013, Washington, DC.

SUMMARY: Notice is hereby given of the following hearing of the U.S.-China Economic and Security Review Commission.

Name: William A. Reinsch, Chairman of the U.S.-China Economic and Security Review Commission. The Commission is mandated by Congress to investigate, assess, and report to Congress annually on “the national security implications of the economic relationship between the United States and the People's Republic of China.” Pursuant to this mandate, the Commission will hold a public hearing in Washington, DC on June 27, 2013, “Macau and Hong Kong.”

Background: This is the seventh public hearing the Commission will hold during its 2013 report cycle to collect input from academic, industry, and government experts on national security implications of the U.S. bilateral trade and economic relationship with China. The hearing will examine two of China's special administrative regions, Macau and Hong Kong. The Commission will focus on money laundering and financial fraud related to casino gambling in Macau and issues related to democracy, press freedom, and human rights in Hong Kong.

The hearing will be co-chaired by Commissioners William A. Reinsch and Dennis C. Shea. Any interested party may file a written statement by June 27, 2013, by mailing to the contact below. A portion of each panel will include a question and answer period between the Commissioners and the witnesses.

Location, Date and Time: Dirksen Senate Office Building, Room 608. Thursday, June 27, 2013, 9:00 a.m.-2:45 p.m. Eastern Time. A detailed agenda for the hearing is posted to the Commission's Web site at www.uscc.gov. Also, please check our Web site for possible changes to the hearing schedule. Reservations are not required to attend the hearing.

FOR FURTHER INFORMATION CONTACT: Any member of the public seeking further information concerning the hearing should contact Reed Eckhold, 444 North Capitol Street NW., Suite 602, Washington, DC 20001; phone: 202-624-1496, or via email at reckhold@uscc.gov. Reservations are not required to attend the hearing.

Authority: Congress created the U.S.-China Economic and Security Review Commission in 2000 in the National Defense Authorization Act (Pub. L. 106-398), as amended by Division P of the Consolidated Appropriations Resolution, 2003 (Pub. L. 108-7), as amended by Pub. L. 109-108 (November 22, 2005).

Dated: June 20, 2013.
Michael Danis,
Executive Director, U.S.-China Economic and Security Review Commission.

[FR Doc. 2013-15115 Filed 6-24-13; 8:45 am]

BILLING CODE 1137-00-P